INTERNATIONAL TRADE COMMISSION

[USITC SE-17-007]

Government in the Sunshine Act Meeting Notice

AGENCY HOLDING THE MEETING: United States International Trade Commission.

TIME AND DATE: March 3, 2017 at 11:00 a.m.

PLACE: Room 101, 500 E Street SW., Washington, DC 20436, Telephone: (202) 205-2000.

STATUS: Open to the public.

MATTERS TO BE CONSIDERED:

1. Agendas for future meetings: None.

2. Minutes.

3. Ratification List.

4. Vote in Inv. Nos. 701-TA-560 and 731-TA-1320 (Final) (Carbon and Alloy Steel Cut-to-Length Plate from China). The Commission is currently scheduled to complete and file its determinations and views of the Commission by March 13, 2017.

5. Vote in Inv. Nos. 701-TA-557 and 731-TA-1312 (Final) (Stainless Steel Sheet and Strip from China). The Commission is currently scheduled to complete and file its determinations and views of the Commission by March 24, 2017.

6. Outstanding action jackets: None.

In accordance with Commission policy, subject matter listed above, not disposed of at the scheduled meeting, may be carried over to the agenda of the following meeting.

By order of the Commission.
Issued: February 22, 2017.
William R. Bishop,
Supervisory Hearings and Information Officer.

[FR Doc. 2017-03838 Filed 2-23-17; 11:15 am]

BILLING CODE 7020-02-P